DEPARTMENT OF COMMERCE

National Oceanic and Atmospheric Administration

50 CFR Part 622

[I.D. 021705A]

RIN 0648-AS19

Fisheries of the Caribbean, Gulf of Mexico, and South Atlantic; Reef Fish Fishery of the Gulf of Mexico; Vermilion Snapper Rebuilding Plan

AGENCY: National Marine Fisheries Service (NMFS), National Oceanic and Atmospheric Administration (NOAA), Commerce.

ACTION: Notice of availability of Amendment 23 to the Fishery Management Plan (FMP) for Reef Fish Resources of the Gulf of Mexico (Amendment 23); request for comments.

SUMMARY: NMFS announces the availability of Amendment 23 prepared by the Gulf of Mexico Fishery Management Council (Council) that would establish a 10-year rebuilding plan for vermilion snapper in the exclusive economic zone (EEZ) of the Gulf of Mexico. The rebuilding plan seeks to achieve a 25.5-percent reduction in harvest based on the 2003 predicted landings. Measures to accomplish this reduction equitably for the commercial and recreational sectors of this fishery include increases in minimum size, a decreased recreational bag limit, and a closed commercial season. Amendment 23 would also establish biological reference points and stock status determination criteria for vermilion snapper (i.e., maximum sustainable yield (MSY), optimum yield (OY), maximum fishing mortality threshold (MFMT), and minimum stock size threshold (MSST), consistent with the requirements of the Magnuson-Stevens Fishery Conservation and Management Act (Magnuson-Stevens Act). The intended effect of these measures is to end overfishing and rebuild the vermilion snapper resource consistent with the requirements of the Magnuson-Stevens Act.

DATES: Written comments must be received no later than 5 p.m., eastern time, April 25, 2005.

ADDRESSES: You may submit comments on Amendment 23 by any of the following methods:

• E-mail: 0648-AS19NOA@noaa.gov. Include in the subject line the following document identifier: 0648-AS19.

• Federal e-Rulemaking Portal: http://www.regulations.gov. Follow the instructions for submitting comments.

• Mail: Peter Hood, Southeast Regional Office, NMFS, 9721 Executive Center Drive N., St. Petersburg, FL 33702.

• Fax: 727-570-5583, Attention: Peter Hood.

Copies of Amendment 23, which includes a Regulatory Impact Review, Initial Regulatory Flexibility Analyses, and a Supplemental Environmental Impact Statement, may be obtained from the Gulf of Mexico Fishery Management Council, The Commons at Rivergate, 3018 U.S. Highway 301 North, Suite 1000, Tampa, FL 33619-2266; telephone: 813-228-2815; fax: 813-225-7015; e-mail: gulfcouncil@gulfcouncil.org. Copies of Amendment 23 can also be downloaded from the Council's website at www.gulfcouncil.org.

FOR FURTHER INFORMATION CONTACT: Peter Hood, telephone: 727-570-5305; fax: 727-570-5583; e-mail: peter.hood@noaa.gov.

SUPPLEMENTARY INFORMATION: The reef fish fishery in the EEZ of the Gulf of Mexico is managed under the FMP. The FMP was prepared by the Council under the authority of the Magnuson-Stevens Act by regulations at 50 CFR part 622.

Background

In October 2003, NMFS declared the Gulf of Mexico stock of vermilion snapper to be overfished and undergoing overfishing. This determination was based in part on the results of a 2001 NMFS vermilion stock assessment and review by the Council's Reef Fish Stock Assessment Panel that found the stock to be undergoing overfishing. Subsequently, NMFS reexamined the assessment, as well as more recent data that ultimately supported the findings of the assessment, and declared the Gulf of Mexico vermilion snapper stock overfished. Therefore, measures to end overfishing and a rebuilding plan to restore the stock to the biomass needed to allow harvest at maximum sustainable yield (BMSY) in 10 years or less are necessary.

Amendment 23 contains measures for vermilion snapper designed to end overfishing and initiate implementation of the rebuilding plan that allocates the necessary restrictions fairly and equitably between the recreational and commercial sectors of the fishery, consistent with the requirements of the Magnuson-Stevens Act.

Rebuilding Plan

Amendment 23 would establish a 10-year vermilion snapper rebuilding plan, structured in one 4-year interval followed by two 3 year intervals, that would end overfishing and rebuild the stock to BMSY. In Amendment 23, the rebuilding plan begins in 2004 and continues through 2013. However, due to the time required to complete supporting documentation, implementation of this amendment will not occur until 2005. Therefore, the rebuilding plan has been moved forward one year and will begin in 2005. The intervals are intended to provide short-term stability for the management and operation of the fishery, correlate more closely with the timing of future stock assessments, and provide a more reasonable time period for assessing the impacts of prior management actions. The appropriate parameters for each time interval, consistent with the overall objectives of the rebuilding plan, would be determined based upon the most recent stock assessment.

Initial (2005-2008) Implementation of the Rebuilding Plan

Based on the results of the 2001 vermilion snapper stock assessment and updated indices of abundance, the allowable harvest for the first 4-year interval starting in 2005 is 1.475 million lb (0.664 million kg). This equates to a 25.5-percent reduction in harvest based on the 2003 predicted landings. Measures to accomplish this reduction are:

(1) a minimum size limit for recreationally caught vermilion snapper of 11 inches (27.9 cm) total length (TL);

(2) a bag limit of 10 fish within the 20-reef fish aggregate bag limit. The increase in the size limit, from 10 inches (25.4 cm) TL to 11 inches (27.9 cm) TL, and the further restriction of the bag limit would achieve approximately a 21.5-percent reduction relative to the predicted 2003 harvest;

(3) a minimum size limit for commercially caught vermilion snapper of 11 inches (27.9 cm) TL; and

(4) a closed commercial season from April 22 through May 31 each year. This would achieve a 26.3-percent harvest reduction from the estimated 2003 landings.

The reduction in harvest achieved by these measures is slightly more than the target 25.5 percent needed by the rebuilding plan. Increasing harvest by the commercial sector is believed to have contributed the most to the overfishing and overfished conditions that must be addressed by this amendment. Therefore, the Council decided more of the socioeconomic cost of rebuilding the fishery should be placed on the commercial sector. Because the commercial sector lands the majority of vermilion snapper (79 percent of the harvest between 1996 and 2002), the harvest reduction of 26.3 percent obtained by these measures was deemed appropriate.

In addition, Amendment 23 would establish biological reference points and stock status determination criteria for vermilion snapper (MSY, OY, MFMT, and MSST), consistent with the requirements of the Magnuson-Stevens Act.

Additional Review Procedures

A proposed rule that would implement measures outlined in the amendment has been prepared. In accordance with the Magnuson-Stevens Act, NMFS is evaluating the proposed rule to determine whether it is consistent with Amendment 23, the FMP, the Magnuson-Stevens Act, and other applicable law. If that determination is affirmative, NMFS will publish the proposed rule in the Federal Register for public review and comment.

Comments received by April 25, 2005, whether specifically directed to the FMP or the proposed rule, will be considered by NMFS in its decision to approve, disapprove, or partially approve Amendment 23. Comments received after that date will not be considered by NMFS in this decision. All comments received by NMFS on Amendment 23 or the proposed rule during their respective comment periods will be addressed in the final rule.

Authority: 16 U.S.C. 1801 et seq.

Dated: February 18, 2005.
Alan D. Risenhoover,
Acting Director, Office of Sustainable Fisheries, National Marine Fisheries Service.

[FR Doc. 05-3579 Filed 2-23-05; 8:45 am]

BILLING CODE 3510-22-S